INTERNATIONAL TRADE COMMISSION

[Investigation Nos. 701-TA-576-577 and 731-TA-1362-1367 (Review)]

Cold-Drawn Mechanical Tubing From China, Germany, India, Italy, South Korea, and Switzerland

Determinations

On the basis of the record ¹ developed in the subject five-year reviews, the United States International Trade Commission (“Commission”) determines, pursuant to the Tariff Act of 1930 (“the Act”), that revocation of the countervailing duty orders on certain cold-drawn mechanical tubing of carbon and alloy steel (“cold-drawn mechanical tubing”) from China and India and the antidumping duty orders on cold-drawn mechanical tubing from China, Germany, India, Italy, South Korea, and Switzerland would be likely to lead to continuation or recurrence of material injury to an industry in the United States within a reasonably foreseeable time.

¹ The record is defined in § 207.2(f) of the Commission's Rules of Practice and Procedure (19 CFR 207.2(f)).

Background

The Commission instituted these reviews on January 3, 2023 (88 FR 114) and determined on April 10, 2023 that it would conduct a full review (88 FR 24442, April 20, 2023). Notice of the scheduling of the Commission's reviews and of a public hearing to be held in connection therewith was given by posting copies of the notice in the Office of the Secretary, U.S. International Trade Commission, Washington, DC, and by publishing the notice in the Federal Register on July 13, 2023 (88 FR 44841). The Commission conducted its hearing on November 28, 2023. All persons who requested the opportunity were permitted to participate.

The Commission made these determinations pursuant to section 751(c) of the Act (19 U.S.C. 1675(c)). It completed and filed its determinations in these reviews on February 9, 2024. The views of the Commission are contained in USITC Publication 5487 (February 2024), entitled Cold-Drawn Mechanical Tubing from China, Germany, India, Italy, South Korea, and Switzerland: Investigation Nos. 701-TA-576-577 and 731-TA-1362-1367 (Review).

By order of the Commission.
Issued: February 9, 2024.
Lisa Barton,
Secretary to the Commission.

[FR Doc. 2024-03061 Filed 2-13-24; 8:45 am]

BILLING CODE 7020-02-P